NATIONAL AERONAUTICS AND SPACE ADMINISTRATION

[Notice 23-031]

Notice of Information Collections

AGENCY: National Aeronautics and Space Administration (NASA).

ACTION: Notice of information collections.

SUMMARY: The National Aeronautics and Space Administration, as part of its continuing effort to reduce paperwork and respondent burden, invites the general public and other Federal agencies to take this opportunity to comment on proposed and/or continuing information collections.

DATES: Comments are due by June 13, 2023.

ADDRESSES: Written comments and recommendations for this information collection should be sent within 60 days of publication of this notice to www.reginfo.gov/public/do/PRAMain. Find this information collection by selecting “Currently under 60-day Review—Open for Public Comments” or by using the search function.

FOR FURTHER INFORMATION CONTACT: Requests for additional information or copies of the information collection instrument(s) and instructions should be directed to Bill Edwards-Bodmer, NASA Clearance Officer, NASA Headquarters, 300 E Street SW, JF0000, Washington, DC 20546, 757-864-3292, or b.edwards-bodmer@nasa.gov.

SUPPLEMENTARY INFORMATION FOR 2700-0135:

I. Abstract

The NASA Kennedy Space Center (KSC) manages and facilitates the center-specific Job Shadowing Program (JSP). The program targets high school and undergraduate students and offers an opportunity to experience the practical application of STEM, business, and other disciplines aligned to NASA's long-term workforce needs, in a NASA-unique workplace setting. Program participants receive insight into NASA and KSC's history, current activities, and other student opportunities through briefings, tours, and career panels. Each participant is then matched with a subject matter expert to gain direct exposure to the implementation of their respective fields of interest and related career paths.

II. Methods of Collection

Electronic.

III. Data

Title: Job Shadowing Program.

OMB Number: 2700-0135.

Type of Review: Reinstatement.

Affected Public: High school and college students, and faculty.

Estimated Annual Number of Activities: 4.

Estimated Number of Respondents per Activity: 20.

Annual Responses: 80.

Estimated Time per Response: 30 minutes.

Estimated Total Annual Burden Hours: 40.

Estimated Total Annual Cost: $784.

SUPPLEMENTARY INFORMATION FOR 2700-0150:

I. Abstract

NASA's founding legislation, the Space Act of 1958, as amended, directs the Agency to expand human knowledge of Earth and space phenomena and to preserve the role of the United States as a leader in aeronautics, space science, and technology. The NASA Office of Education has three primary goals (1) strengthen NASA and the Nation's future workforce, (2) attract and retain students in science, technology, engineering and mathematics, or STEM, disciplines, and (3) engage Americans in NASA's mission. This notice informs the public of NASA's intent to revise a currently approved information collection for a project formerly known as the NASA Summer of Innovation Project. The request for renewal pertains to the administration of surveys to youth in support of the agency's STEM challenge activities for middle school youth. The information collection was revised to collect the minimum amount of data required to (1) evaluate the activity for improvement opportunities, and (2) collect outcome data to assess the activity model's effectiveness in meeting its intended objectives. Youth surveys have been retained in this information collection, but the parent survey and teacher focus groups have been eliminated to reduce burden. The number of youths participating in this information collection has been reduced to reflect the estimated number of participants who will be engaged in this activity in the future. The cost of the information collection, to participating members of the public, has also been reduced as a result of these and other changes to the information collection.

II. Methods of Collection

Electronic.

III. Data

Title: NASA Office of Education STEM Challenges.

OMB Number: 2700-0150.

Type of Review: Reinstatement.

Affected Public: Individuals.

Estimated Annual Number of Activities: 810.

Estimated Number of Respondents per Activity: 1.

Annual Responses: 1,620.

Estimated Time per Response: 6 minutes.

Estimated Total Annual Burden Hours: 162.

Estimated Total Annual Cost: $1,175.

SUPPLEMENTARY INFORMATION FOR 2700-0157:

I. Abstract

The National Aeronautics and Space Administration seeks to collect information from members of the public to plan, conduct, and register participants and volunteers for the NASA Human Exploration Rover Challenge, which supports science, technology, engineering, or mathematics (STEM) education. This engineering design challenge focuses on NASA's current plans to explore planets, moons, asteroids, and comets—all members of the solar system family. The challenge will focus on designing, constructing, and testing technologies for mobility devices to perform in these different environments, and it will provide valuable experiences that engage students in the technologies and concepts that will be needed in future exploration missions. NASA collects the minimum information necessary from teams, participants, and volunteers to plan and conduct the event.

II. Methods of Collection

Electronic.

III. Data

Title: NASA Human Exploration Rover Challenge.

OMB Number: 2700-0157.

Type of Review: Reinstatement.

Affected Public: Individuals.

Estimated Annual Number of Activities: 1,185.

Estimated Number of Respondents per Activity: 1.

Annual Responses: 1,185.

Estimated Time per Response: 71.5.

Estimated Total Annual Burden Hours: 1,415.

Estimated Total Annual Cost: $7,425.

SUPPLEMENTARY INFORMATION FOR 2700-0184:

I. Abstract

The NASA Universal Registration and Data Management System is a comprehensive tool designed to allow learners (i.e., students, educators, and awardee principal investigators) to apply to NASA STEM engagement opportunities (e.g., internships, fellowships, challenges, educator professional development, experiential learning activities, etc.) in a single location. NASA personnel manage the selection of applicants and implementation of engagement opportunities within the Universal Registration and Data Management System. The information collected will be used by the NASA Office of STEM Engagement (OSTEM) in order to review applications for participation in NASA engagement opportunities. The information is reviewed by OSTEM project and activity managers, as well as NASA mentors who would be hosting students. This information collection will consist of student-level data such as demographic information submitted as part of the application. In addition to supporting student selection, student- level data will enable NASA OSTEM to fulfill federally mandated reporting on its STEM engagement activities and report relevant demographic information as needed for Agency performance goals and success criteria (annual performance indicators).

II. Methods of Collection

Electronic.

III. Data

Title: NASA Universal Registration and Data Management System.

OMB Number: 2700-0184.

Type of Review: Reinstatement.

Affected Public: Eligible students or educators, and/or awardee principal investigators may voluntarily apply for an internship or fellowship experience at a NASA facility, or register for a STEM engagement opportunity (e.g., challenges, educator professional development, experiential learning activities, etc.). Parents/caregivers of eligible student applicants (at least 16 years of age but under the age of 18) may voluntarily provide consent for their eligible student applicants to apply.

Estimated Annual Number of Activities: 40.

Estimated Number of Respondents per Activity: 4,125.

Annual Responses: 165,000.

Estimated Time per Response: 30 minutes.

Estimated Total Annual Burden Hours: 82,500.

Estimated Total Annual Cost: $1,015,207.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

William Edwards-Bodmer,
NASA PRA Clearance Officer.

[FR Doc. 2023-07848 Filed 4-12-23; 8:45 am]

BILLING CODE 7510-13-P